ENVIRONMENTAL PROTECTION AGENCY

40 CFR Part 194

[FRL-7468-8]

Waste Characterization Program Documents Applicable to Transuranic Radioactive Waste From the Savannah River Site Proposed for Disposal at the Waste Isolation Pilot Plant

AGENCY: Environmental Protection Agency.

ACTION: Notice of availability; opening of public comment period.

SUMMARY: The Environmental Protection Agency (EPA, or “we”) is announcing the availability of, and soliciting public comments for 30 days on, Department of Energy (DOE) documents on waste characterization programs applicable to certain transuranic (TRU) radioactive waste at the Savannah River Site (SRS) proposed for disposal at the Waste Isolation Pilot Plant (WIPP). The documents are procedures and other materials related to the Central Characterization Project (CCP), established by DOE to augment the ability of TRU waste sites to characterize and certify the waste in accordance with EPA's WIPP Compliance Criteria. The documents are available for review in the public dockets listed in ADDRESSES. We will use these documents to evaluate the CCP activities at SRS to characterize SRS-generated contact-handled (CH) retrievably-stored TRU debris waste during an inspection conducted the week of March 24, 2003. The purpose of the inspection is to verify that the CCP can properly characterize SRS-generated contact-handled (CH) TRU debris waste, consistent with the WIPP Compliance Criteria and Condition 3 of EPA's final certification decision for the WIPP.

DATES: The EPA is requesting public comment on these documents. Comments must be received by EPA's official Air Docket on or before April 17, 2003.

ADDRESSES: Comments should be submitted to: Air and Radiation Docket, Attn: Docket A-98-49, EPA Docket Center (EPA/DC), EPA West, Mail Code 6102T, 1200 Pennsylvania Ave., NW., Washington, DC, 20460.

DOE documents related to the CCP are available for review in the official EPA Air Docket in Washington, DC, Docket No. A-98-49, Category II-A2, and at the following three EPA WIPP informational docket locations in New Mexico: In Carlsbad at the Municipal Library, hours: Monday-Thursday, 10 a.m.-9 p.m., Friday-Saturday, 10 a.m.-6 p.m., and Sunday, 1 p.m.-5 p.m.; in Albuquerque at the Government Publications Department, General Library, University of New Mexico, hours: vary by semester; and in Santa Fe at the New Mexico State Library, hours: Monday-Friday, 9 a.m.-5 p.m.

Copies of items in the docket may be requested by writing to Docket A-98-49 at the address provided above, or by calling (202) 566-1742. As provided in EPA's regulations at 40 CFR part 2, and in accordance with normal EPA docket procedures, a reasonable fee may be charged for photocopying.

FOR FURTHER INFORMATION CONTACT: Ms. Rajani D. Joglekar, Office of Radiation and Indoor Air, (202) 564-9310, or call EPA's 24-hour, toll-free WIPP Information Line, 1-800-331-WIPP, or visit our Web site at http://www.epa.gov/radiation/wipp.

SUPPLEMENTARY INFORMATION:

Background

DOE is operating the WIPP near Carlsbad in southeastern New Mexico as a deep geologic repository for disposal of TRU radioactive waste. As defined by the WIPP Land Withdrawal Act (LWA) of 1992 (Public Law 102-579), as amended (Public Law 104-201), transuranic (TRU) waste consists of materials containing elements having atomic numbers greater than 92 (with half-lives greater than 20 years), in concentrations greater than 100 nanocuries of alpha-emitting TRU isotopes per gram of waste. Much of the existing TRU waste consists of items contaminated during the production of nuclear weapons, such as rags, equipment, tools, and sludges.

On May 13, 1998, EPA announced its final compliance certification decision to the Secretary of Energy (published May 18, 1998, 63 FR 27354). This decision stated that the WIPP will comply with EPA's radioactive waste disposal regulations at 40 CFR part 191, subparts B and C.

The final WIPP certification decision includes conditions that (1) prohibit shipment of TRU waste for disposal at WIPP from any site other than the Los Alamos National Laboratory (LANL) until the EPA determines that the site has established and executed a quality assurance program, in accordance with §§ 194.22(a)(2)(i), 194.24(c)(3), and 194.24(c)(5) for waste characterization activities and assumptions (Condition 2 of appendix A to 40 CFR part 194); and (2) prohibit shipment of TRU waste for disposal at WIPP from any site other than LANL until the EPA has approved the procedures developed to comply with the waste characterization requirements of § 194.22(c)(4) (Condition 3 of appendix A to 40 CFR part 194). The EPA's approval process for waste generator sites is described in § 194.8. As part of EPA's decision-making process, the DOE is required to submit to EPA appropriate documentation of quality assurance and waste characterization programs at each DOE waste generator site seeking approval for shipment of TRU radioactive waste to WIPP. In accordance with § 194.8, EPA will place such documentation in the official Air Docket in Washington, DC, and informational dockets in the State of New Mexico for public review and comment.

EPA will perform an inspection of the TRU waste characterization activities performed by the DOE's Central Characterization Project (CCP) staff at the Savannah River Site (SRS) in accordance with Condition 3 of the WIPP certification. We will evaluate the adequacy, implementation, and effectiveness of the CCP technical activities contracted by SRS for characterization of the disposal of retrievably-stored TRU debris waste at the WIPP. The overall program adequacy and effectiveness of CCP documents will be based on the following DOE-provided documents: (1) CCP-PO-001—Revision 5, 2/05/03—CCP Transuranic Waste Characterization Quality Assurance Project Plan and (2) CCP-PO-002—Revision 5, 2/13/03—CCP Transuranic Waste Certification Plan. EPA has placed these DOE-provided documents pertinent to the SRS inspection in the public docket described in ADDRESSES. The documents are included in item II-A2-43 in Docket A-98-49. In accordance with 40 CFR 194.8, EPA is providing the public 30 days to comment on these documents. The inspection is scheduled to take place the week of March 24, 2003.

The EPA inspectors at SRS will evaluate the quality of the waste characterization program via testing, interviews of WC personnel, review of WC procedures, and inspection of WC equipment used to characterize retrievably-stored debris waste. The inspection will focus on the IQ3 NDA (Non-Destructive Assay) system and the AK process as implemented by the CCP at SRS. The EPA has already inspected and approved the quality assurance (QA) program at SRS regarding the CCP. This inspection was conducted in October 2002, and the details of this inspection can be found in item II-A1-41 in Docket A-98-49.

If EPA determines as a result of the inspection that the proposed CCP waste characterization processes and programs used at SRS adequately control the characterization of transuranic waste, we will notify DOE by letter and place the letter in the official Air Docket in Washington, DC, as well as in the informational docket locations in New Mexico. A letter of approval will allow DOE to ship transuranic waste from SRS to the WIPP. The EPA will not make a determination of compliance prior to the inspection or before the 30-day comment period has closed.

Information on the certification decision is filed in the official EPA Air Docket, Docket No. A-93-02 and is available for review in Washington, DC, and at three EPA WIPP informational docket locations in New Mexico. The dockets in New Mexico contain only major items from the official Air Docket in Washington, DC, plus those documents added to the official Air Docket since the October 1992 enactment of the WIPP LWA.

Dated: March 11, 2003.
Robert Brenner,
Acting Assistant Administrator for Air and Radiation.

[FR Doc. 03-6462 Filed 3-17-03; 8:45 am]

BILLING CODE 6560-50-P